AGENCY FOR INTERNATIONAL DEVELOPMENT

Notice of Meeting

Pursuant to the Federal Advisory Committee Act, notice is hereby given of a meeting of the Advisory Committee on Voluntary Foreign Aid (ACVFA).

Date: Wednesday, June 4, 2008 (9 a.m. to 3:30 p.m., times may be adjusted).

Location: The Lane Room, 16th Floor, The Commerce Club, 34 Broad Street, NW., Atlanta, Georgia 30303.

Please note that this is the anticipated agenda and is subject to change.

Keynote: A senior USAID official has been invited to speak on the important role of partnerships as part of USAID's work in international development and humanitarian assistance.

Atlanta's Cross-Cutting Partnerships: An examination of successful partnerships will take place with representatives from private voluntary organizations, universities, for-profit firms and the U.S. Government. Particular attention will be paid to those programs that have been or could be successfully replicated in other countries. Invited panelists include Dr. Julie Gerberding, Director of the U.S. Centers for Disease Control and Prevention, Helene Gayle, President and CEO of CARE (ACVFA Member), Ron Jarvis, Senior Vice President for Pro, Tool Rental and Environment for Home Depot, Michael Nyenhuis, President and CEO of MAP International (ACVFA Member) and a senior representative from an Atlanta area academic institution.

American Awareness of U.S. Foreign Assistance: ACVFA members and Atlanta community leaders will moderate small group discussions with participants on ways to raise awareness of U.S. foreign assistance, including the important collaborative role of partner organizations.

The meeting is free and open to the public. Persons wishing to attend the meeting can register online at http://www.usaid.gov/about_usaid/acvfa or with Jocelyn Rowe at jrowe@usaid.gov or 202-712-4002.

Dated: May 12, 2008.
Jocelyn M. Rowe,
Executive Director, Advisory Committee on Voluntary Foreign Aid (ACVFA), U.S. Agency for International Development.

[FR Doc. E8-11337 Filed 5-20-08; 8:45 am]

BILLING CODE 6116-01-P